DEPARTMENT OF COMMERCE

National Oceanic and Atmospheric Administration

Agency Information Collection Activities; Submission to the Office of Management and Budget (OMB) for Review and Approval; Comment Request; Social and Economic Survey of Hired Captains and Crew in Commercial Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 7, 2024 during a 60-day comment period. This notice allows for an additional 30 days for public comments.

Agency: National Oceanic and Atmospheric Administration, Commerce.

Title: Social and Economic Survey of Hired Captains and Crew in Commercial Fisheries.

OMB Control Number: 0648-0636.

Form Number(s): None.

Type of Request: Regular submission [revision and extension of a current information collection].

Annual Number of Respondents: 1,353.

Average Hours per Response: 15 minutes.

Total Annual Burden Hours: 338.

Needs and Uses: This request is for a revision and extension to an approved collection. The proposed revisions would do the following to the currently approved information collection.

1. Expand the scope from New England, Mid-Atlantic, South Atlantic, and Gulf of Mexico commercial fisheries to Puerto Rico, U.S. Virgin Islands, West Coast, and Pacific Islands commercial fisheries;

2. Change the title from “Socio-Economic Survey of Hired Captains and Crew in New England, Mid-Atlantic, South Atlantic and Gulf of Mexico Commercial Fisheries” to “Social and-Economic Survey of Hired Captains and Crew in Commercial Fisheries”;

a. Replace the survey instrument that OMB approved in 2021, which included some region-specific questions, with region-specific survey instruments that NMFS produced by eliminating the few irrelevant questions for each region, adding a few region-specific questions, rewording a few questions to make them region specific, and giving each survey a region-specific name.

Under the revised information collection, the Northeast Fisheries Science Center (NEFSC) will conduct the survey for the New England and Mid-Atlantic fisheries; the Southeast Fisheries Science Center (SEFSC) will conduct the survey for the South Atlantic, Gulf of Mexico, Puerto Rico, and the U.S. Virgin Islands fisheries; the Northwest Fisheries Science Center (NWFSC) and the Southwest Fisheries Science Center (SWFSC) will jointly conduct the survey for the West Coast fisheries; and the Pacific Islands Fisheries Science Center (PIFSC) will conduct the survey for the Pacific Islands fisheries. Each Fisheries Science Center will conduct a social and economic survey of hired captains and crew once in the following three years for its commercial fisheries.

The Fisheries Science Centers seek to conduct surveys to provide for the ongoing collection of social and economic data related to the fishing industries in those states. The purpose of this survey is to assess and track over time the social and economic conditions of commercial fishing crews and hired captains for which little is known. This survey will provide data on social and economic impacts for this population and the changes in fisheries because of regulatory changes. Data to be collected include demographic information on crew, individual and community well-being, fishing practices, job satisfaction, job opportunities, and attitudes toward fisheries management. The National Environmental Policy Act (NEPA) and Magnuson-Stevens Conservation and Management Act (MSA) both contain requirements for considering the social and economic impacts of fishery management decisions. There is a need to understand how such fishery management policies and programs will affect the social and economic characteristics of those involved in the commercial fishing industry. To help meet these requirements of NEPA and MSA, the Fisheries Science Centers will collect data on an ongoing basis to track how the social and economic characteristics of fisheries are changing over time and the impact of fishery management policies and programs implemented for the New England, Mid-Atlantic, South Atlantic, Gulf of Mexico, Puerto Rico, U.S. Virgin Islands, West Coast, and Pacific Islands commercial fisheries.

Affected Public: Individuals (i.e., hired captains and other crew members in commercial fisheries).

Frequency: Once.

Respondent's Obligation: Voluntary.

Legal Authority: The National Environmental Policy Act (NEPA) and Magnuson-Stevens Conservation and Management Act (MSA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0636.

Sheleen Dumas,
Department PRA Clearance Officer, Office of the Under Secretary for Economic Affairs, Commerce Department.

[FR Doc. 2024-20664 Filed 9-11-24; 8:45 am]

BILLING CODE 3510-22-P